AGENCY FOR INTERNATIONAL DEVELOPMENT

Board for International Food and Agricultural Development; Notice of Meeting

Pursuant to the Federal Advisory Committee Act, notice is hereby given of a public meeting of the Board for International Food and Agricultural Development (BIFAD). The meeting will be held from 8:30 a.m. to 4:20 p.m. CDT at the Hotel Downtown Marriott in Des Moines Iowa. The meeting will be livestreamed and accessible at http://www.aplu.org/projects-and-initiatives/international-programs/bifad/bifad-meetings.html.

A morning session on Agriculture and Food Security in Conflict-Affected and Fragile Context will be held from 8:30 a.m. to 12:30 p.m. CDT, with a public comment period from 12:00 to 12:25 p.m. CDT.

There is an urgent need to understand the unique challenges of improving the agricultural sector and food security in conflict-affected and fragile contexts—including those in which large populations are displaced—in order to strengthen investments in evidence-based food and agriculture programming tailored for these contexts. This BIFAD public meeting begins to address this need by bringing stakeholders and sector experts together for a timely discussion on the subject.

The morning session will specifically address the following questions: What is the state of knowledge on the relationship between conflict, fragility and food systems? What are the implications of this relationship for food security? How can food security and agricultural investments be most effective in preventing conflict or accelerating recovery in post-conflict settings? What are the unique needs of affected populations?

From 2:30 p.m. to 3:30 p.m. CDT, a new BIFAD-commissioned study, How the United States Benefits from Agricultural and Food Security Investments in Developing Countries, will be launched, with a public comment period from 3:15 p.m. to 3:30 p.m. CDT.

From 3:45 to 4:20, the BIFAD Awards for Scientific Excellence in a Feed the Future Innovation Lab will be announced and presented to award recipients.

BIFAD is a seven-member, presidentially appointed advisory board to USAID established in 1975 under Title XII of the Foreign Assistance Act, as amended. The provisions of Title XII concern bringing assets of U.S. universities to bear on development challenges in agriculture and food security, and the BIFAD's role is to help carry out this function.

For questions about registration, please contact Devin Furguson at dferguson@aplu.org or (202) 478-6030. For questions about BIFAD, please contact Clara Cohen, Designated Federal Officer for BIFAD in the Bureau for Food Security at USAID. Interested persons may write to her in care of the U.S. Agency for International Development, Ronald Reagan Building, Bureau for Food Security, 1300 Pennsylvania Avenue NW, Washington, DC 20523-2110, email her at ccohen@usaid.gov, or telephone her at (202) 712-0119.

Clara Cohen,
Designated Federal Officer, BIFAD.

[FR Doc. 2019-20311 Filed 9-18-19; 8:45 am]

BILLING CODE 6116-02-P